DEPARTMENT OF ENERGY

Federal Energy Regulatory Commission

[Project No. 14514-003]

Community of Elfin Cove Non Profit Corporation, DBA Elfin Cove Utility Commission; Notice of Application Accepted for Filing, Intent To Waive Scoping, Soliciting Motions To Intervene and Protests, Ready for Environmental Analysis, and Soliciting Comments, Terms and Conditions, Recommendations, Prescriptions

Take notice that the following hydroelectric application has been filed with the Commission and is available for public inspection.

a. Type of Application: Original Minor License.

b. Project No.: 14514-003.

c. Date filed: August 24, 2020.

d. Applicant: Community of Elfin Cove Non Profit Corporation, DBA Elfin Cove Utility Commission.

e. Name of Project: Crooked Creek and Jim's Lake Hydroelectric Project.

f. Location: On Crooked Creek and Jim's Lake, near the community of Elfin Cove, in the Sitka Recording District, Unorganized Borough, Alaska. The project would occupy 10.5 acres of federal land in the Tongass National Forest, managed by the U.S. Department of Agriculture's Forest Service.

g. Filed Pursuant to: Federal Power Act 16 U.S.C. 791 (a)-825(r).

h. Applicant Contact: Mr. Joel Groves, Polarconsult Alaska, Inc., 1503 W 33rd Avenue, #310, Anchorage, Alaska 99503; phone: (907) 258-2420 ext. 204.

i. FERC Contact: John Matkowski, (202) 502-8576 or john.matkowski@ferc.gov.

j. Deadline for filing motions to intervene and protests, comments, terms and conditions, recommendations, and prescriptions: 60 days from the issuance date of this notice; reply comments are due 105 days from the issuance date of this notice.

The Commission strongly encourages electronic filing. Please file motions to intervene, protests, comments, terms and conditions, recommendations, and prescriptions using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-14514-003.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. The proposed project would consist of: (1) a new surface water intake structure fitted with an 8-foot-wide, 18-inch high inclined plate screen with 0.1 millimeter openings to divert up to five cubic feet per second (cfs) from Crooked Creek to a 16-foot-long, 4-foot-diameter buried intake pipe; (2) a new 825-foot-long, 14-inch-diameter partially buried high‐density polyethylene (HDPE) penstock extending between the intake structure in Crooked Creek to an 8-foot-long, 6-foot-diameter buried energy dissipation structure near the shoreline of Jim's Lake; (3) a new 30-foot-long, 4-foot-wide, 18-inch deep rip-rap discharge apron below the energy dissipation structure that discharges into the existing 160-foot-long natural channel flowing into Jim's Lake; (4) the existing Jim's Lake with a new surface area of 5.7 acres and gross storage capacity of 76-acre-feet at normal maximum water elevation of 342 feet mean low water; (5) a new 200-foot-long, 14-foot-high reinforced concrete dam with a 35-foot-long, 20-foot-wide, 14-foot-high spillway section at the outlet of Jim's Lake; (6) a new intake consisting of a 4-foot-wide, 6‐foot-high vertically‐oriented intake screen and a 20-inch-diamter intake opening; (7) a new 2,350-foot-long, 16 to 20-inch-diameter buried HDPE penstock extending between the intake pipe opening and the powerhouse; (8) a 20-foot-long, 28-foot-wide, 14-foot-high wood-frame powerhouse containing a 105-kilowatt impulse turbine-generator unit; (9) a tailrace discharging flows into Port Althorp; (10) a 5,800-foot-long, 7.2/12.47-kilovolt (kV) buried transmission line extending from the project powerhouse to Elfin Cove's existing 7.2/12.47-kV transmission line; and (11) appurtenant facilities.

The project would generate an average of 594.8 megawatt-hours annually.

m. Due to the small size and location of this project, the applicant's close coordination with federal and state agencies during preparation of the application, and studies completed during pre-filing consultation, we intend to waive scoping and expedite the licensing process. Based on a review of the application and resource agency consultation letters including comments filed to date, Commission staff does not anticipate that any new issues would be identified through additional scoping. Based on the issues identified during the pre-filing period, staff's National Environmental Policy Act (NEPA) document will consider the potential effects of project construction and operation on geology and soils, aquatic, terrestrial, threatened and endangered species, recreation, and cultural and historic resources.

n. A copy of the application can be viewed on the Commission's website at http://www.ferc.gov using the “eLibrary” link. Enter the docket number excluding the last three digits in the docket number field to access the document. For assistance, contact FERC Online Support.

Register online at https://ferconline.ferc.gov/FERCOnline.aspx to be notified via email of new filings and issuances related to this or other pending projects. For assistance, contact FERC Online Support.

o. Any qualified applicant desiring to file a competing application must submit to the Commission, on or before the specified intervention deadline date, a competing development application, or a notice of intent to file such an application. Submission of a timely notice of intent allows an interested person to file the competing development application no later than 120 days after the specified intervention deadline date. Applications for preliminary permits will not be accepted in response to this notice.

A notice of intent must specify the exact name, business address, and telephone number of the prospective applicant, and must include an unequivocal statement of intent to submit a development application. A notice of intent must be served on the applicant(s) named in this public notice.

Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST”, “MOTION TO INTERVENE”, “NOTICE OF INTENT TO FILE COMPETING APPLICATION,” “COMPETING APPLICATION,” “COMMENTS,” “REPLY COMMENTS,” “RECOMMENDATIONS,” “TERMS AND CONDITIONS,” or “PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

p. The applicant must file no later than 60 days following the date of issuance of this notice: (1) a copy of the water quality certification; (2) a copy of the request for certification, including proof of the date on which the certifying agency received the request; or (3) evidence of waiver of water quality certification. Please note that the certification request must comply with 40 CFR 121.5(b), including documentation that a pre-filing meeting request was submitted to the certifying authority at least 30 days prior to submitting the certification request. Please also note that the certification request must be sent to the certifying authority and to the Commission concurrently.

q. Procedural schedule: The application will be processed according to the following preliminary schedule. Revisions to the schedule will be made as appropriate.

Milestone | Target date
Deadline for filing interventions, protests, comments, recommendations, preliminary terms and conditions, and preliminary fishway prescriptions | August 2022.
Deadline for filing reply comments | October 2022.

Dated: June 28, 2022.
Kimberly D. Bose,
Secretary.

[FR Doc. 2022-14110 Filed 6-30-22; 8:45 am]

BILLING CODE 6717-01-P